COMMITTEE FOR PURCHASE FROM PEOPLE WHO ARE BLIND OR SEVERELY DISABLED

Procurement List; Proposed Deletions

AGENCY: Committee For Purchase From People Who Are Blind or Severely Disabled.

ACTION: Proposed Deletions from the Procurement List.

SUMMARY: The Committee is proposing to delete product(s) from the Procurement List that were furnished by nonprofit agencies employing persons who are blind or have other severe disabilities.

DATES: Comments must be received on or before: November 17, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

2540-01-314-7834—Cushion, Seat, Vehicular, 14.5″ x 18″

Authorized Source of Supply: Lions Services, Inc., Charlotte, NC

Contracting Activity: DLA LAND AND MARITIME, COLUMBUS, OH

NSN(s)—Product Name(s):

7110-00-823-7675—Conference Table, 72″ x 34″ x 29½″, Seats 8, Walnut Laminate

7110-00-958-0780—Conference Table, 60″ x 30″ x 29½″, Seats 6, Walnut Laminate

7110-00-902-3052—Conference Table—120″ x 48″ x 29½″, Seats 12, Walnut Laminate

7110-00-903-3061—Conference Table—96″ x 38″ x 29½″, Seats 10, Walnut Laminate

Authorized Source of Supply: Knox County Association for Remarkable Citizens, Inc., Vincennes, IN

Contracting Activity: GSA/FAS FURNITURE SYSTEMS MGT DIV, PHILADELPHIA, PA

Michael R. Jurkowski,
Director, Business Operations.

[FR Doc. 2024-24086 Filed 10-17-24; 8:45 am]

BILLING CODE 6353-01-P